DEPARTMENT OF COMMERCE

Foreign-Trade Zones Board

(Docket 36-2005)

Foreign-Trade Zone 141 Rochester, New York, Expansion of Manufacturing Authority Subzone 141A, Eastman Kodak Company, (Printer Cartridges and Thermal Media)

An application has been submitted to the Foreign-Trade Zones Board (the

Board) by Monroe County, New York, grantee of FTZ 141, to expand the scope of manufacturing authority for the Eastman Kodak Company (Kodak) under zone procedures within Subzone 141A, at the Kodak plant located at sites in the Rochester, New York area. The application was submitted pursuant to the Foreign-Trade Zones Act, as amended (19 U.S.C. 81a-81u), and the regulations of the Board (15 CFR part 400). It was formally filed on August 1, 2005.

Subzone 141A was approved by the Board in 1988 and is currently comprised of four sites in the Rochester, New York area. Authority was granted for the manufacture of: photographic film, paper and chemicals; photographic/video cameras, equipment and supplies; copiers, office machines, and computer equipment; medical instruments and equipment; and life science chemicals (Board Order 401, 53 FR 52456, 12/28/1988).

Kodak is now proposing to expand the scope of manufacturing activity conducted under zone procedures at Subzone 141A to include additional finished products (printer cartridges and thermal media). These finished products fall into categories which enter the United States at duty rates ranging from duty-free to 3.7% ad valorem. Kodak's application indicates that foreign-sourced materials under the proposed expanded scope (thermal media and film base HTSUS categories 3702.44 and 3920.62, respectively) have duty rates ranging from 3.7% to 4.2%.

Expanded subzone manufacturing authority would exempt Kodak from Customs duty payments on foreign components when used in export production of the new products. On its domestic sales, Kodak would be able to choose the lower duty rate that applies to the new finished products for foreign components, when applicable. Kodak would also be able to avoid duty on foreign inputs which become scrap/waste, estimated at five percent of FTZ-related savings. Kodak may also realize logistical/procedural and other benefits related to the proposed expanded scope of manufacturing. All of the above-cited savings from zone procedures could help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building--Suite 4100W, 1099 14th St. NW., Washington, DC 20005; or

2. Submissions via the U.S. Postal Service: Foreign-Trade-Zones Board, U.S. Department of Commerce, FCB--Suite 4100W, 1401 Constitution Ave. NW., Washington, DC 20230.

The closing period for their receipt is October 11, 2005. Rebuttal comments in response to material submitted during the foregoing period may be submitted during the subsequent 15-day period to October 24, 2005.

A copy of the application and accompanying exhibits will be available for public inspection at the Office of the Foreign-Trade Zones Board's Executive Secretary at address Number 1 listed above, and at the Rochester U.S. Export Assistance Center, 400 Andrews St., Suite 710, Rochester, NY 14604.

Dated: August 3. 2005.
Dennis Puccinelli,
Executive Secretary.

[FR Doc. 05-15822 Filed 8-9-05; 8:45 am]

BILLING CODE 3510-DS-S